DEPARTMENT OF THE INTERIOR

National Park Service

[NPS-WASO-NRNHL-DTS#-37814; PPWOCRADI0, PCU00RP14.R50000]

National Register of Historic Places; Notification of Pending Nominations and Related Actions

AGENCY: National Park Service, Interior.

ACTION: Notice.

SUMMARY: The National Park Service is soliciting electronic comments on the significance of properties nominated before April 13, 2024, for listing or related actions in the National Register of Historic Places.

DATES: Comments should be submitted electronically by May 8, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 12, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name(if applicable), Address/Boundary, City, Vicinity, Reference Number.

KANSAS

Labette County

Oakwood Cemetery, 300 South Leawood Drive, Parsons, SG100010344

MASSACHUSETTS

Worcester County

J.R. Torrey Razor Co. and J. R. Torrey & Co. Manufacturing Facility, 128 Chandler Street, Worcester, SG100010339

NEW YORK

Monroe County

Ellwanger & Barry-Highland Park Historic District, Portions of Linden, Crawford, Mulberry, Meigs, Rockingham and South Goodman Streets; Gregory Hill Road, Mt. Vernon Avenue, Greenview Drive, & Highland Parkway, Rochester, SG100010347

New York County

Three Arts Club, 340 West 85th Street, New York, SG100010346

Onondaga County

Kemp & Burpee-Brown-Lipe Company Buildings, (Industrial Resources in the City of Syracuse, Onondaga County, NY MPS), 1117 W Fayette St and 200-206 S. Geddes St, Syracuse, MP100010352

Rensselaer County

Fitzgerald Brothers Brewing Company Bottling Works, 500 River Street, Troy, SG100010345

OREGON

Jackson County

Malmgren Garage, 111 Talent Avenue, Talent, SG100010337

VIRGINIA

Petersburg INDEPENDENT CITY

William R. McKenney Memorial Building, 137 South Sycamore Street, Petersburg, SG100010351

Virginia Beach INDEPENDENT CITY

Seatack Historic District

Ackiss Ave, Americus Ave, Beautiful St, Bells Rd, Birdneck Rd, Brooklyn Ave, Burford Ave, Butts Ln, Carver Ave, Frazee Ln. Hope Ave. Hughes Ave, Longstreet Ave. Loretta Ln, Norfolk Ave, Old Virginia Beach Rd. Olds Ln, Owls Creek Ln, Sea St, Summerville Ct, Virginia Beach, SG100010348

WASHINGTON

Spokane County

American Legion Cenotaph—Riverside Park Cemetery, 508 N Government Way, Spokane vicinity, SG100010340

Wahkiakum County

Hansen, Julia Butler, House, 35 Butler Street, Cathlamet, SG100010342

WISCONSIN

Milwaukee County

Hotel Schroeder, 509 West Wisconsin, Milwaukee, SG100010338

A request to move has been received for the following resource(s):

WASHINGTON

King County

Pacific Coast Company House No. 75, N of Renton at 7210 138th St. SE, Renton vicinity, MV79002534

Authority: Section 60.13 of 36 CFR part 60.

Sherry A. Frear,
Chief, National Register of Historic Places/National Historic Landmarks Program.

[FR Doc. 2024-08607 Filed 4-22-24; 8:45 am]

BILLING CODE 4312-52-P